GENERAL SERVICES ADMINISTRATION

48 CFR Parts 523 and 552

[GSAR Case 2022-G517, Docket No. GSA-GSAR-2022-0014, Sequence No. 1]

RIN 3090-AK60

General Services Administration Acquisition Regulation (GSAR); Single-Use Plastics and Packaging

AGENCY: Office of Acquisition Policy, General Services Administration (GSA).

ACTION: Advance notice of proposed rulemaking; extension of comment period.

SUMMARY: The General Services Administration (GSA) published an advance notice of proposed rulemaking on July 7, 2022, seeking public feedback pertaining to the use of plastic consumed in both packaging and shipping, as well as other single-use plastics for which the agency contracts. The deadline for submitting comments is being extended from September 6, 2022, to September 27, 2022, to provide additional time for interested parties to provide inputs.

DATES: For the advance notice of proposed rulemaking published on July 7, 2022 (87 FR 40476), submit comments on or before September 27, 2022.

ADDRESSES: Submit comments in response to GSAR Case 2022-G517 to the Federal eRulemaking portal at https://www.regulations.gov by searching for “GSAR Case 2022-G517”. Select the link “Comment Now” that corresponds with “GSAR Case 2022-G517”. Follow the instructions provided on the “Comment Now” screen. Please include your name, company name (if any), and “GSAR Case 2022-G517” on your attached document. If your comment cannot be submitted using https://www.regulations.gov, call or email the points of contact in the FOR FURTHER INFORMATION CONTACT section of this document for alternate instructions.

Instructions: Please submit comments only and cite “GSAR Case 2022-G517” in all correspondence related to this case. Comments received generally will be posted without change to https://www.regulations.gov, including any personal and/or business confidential information provided. To confirm receipt of your comment(s), please check https://www.regulations.gov, approximately two to three days after submission to verify posting.

FOR FURTHER INFORMATION CONTACT: Ms. Adina Torberntsson, Procurement Analyst, at 303-236-2677 or gsarpolicy@gsa.gov, for clarification of content. For information pertaining to status or publication schedules, contact the Regulatory Secretariat Division at 202-501-4755 or GSARegSec@gsa.gov. Please cite GSAR Case 2022-G517.

SUPPLEMENTARY INFORMATION:

I. Background

On July 7, 2022, the General Services Administration published an advance notice of proposed rulemaking (ANPR) in the Federal Register at 87 FR 40476 seeking public feedback pertaining to the use of plastic consumed in both packaging and shipping, as well as other single-use plastics for which the agency contracts. The comment period is extended to September 27, 2022, to allow additional time for interested parties to submit comments in response to the questions posed in the ANPR.

Jeffrey A. Koses,
Senior Procurement Executive, Office of Acquisition Policy, Office of Governmentwide Policy, General Services Administration.

[FR Doc. 2022-19376 Filed 9-7-22; 8:45 am]

BILLING CODE 6820-61-P